DEPARTMENT OF COMMERCE

National Oceanic and Atmospheric Administration

RIN 0648-XA369

Marine Mammals; File No. 14326

AGENCY: National Marine Fisheries Service (NMFS), National Oceanic and Atmospheric Administration (NOAA), Commerce.

ACTION: Notice; issuance of permit amendment.

SUMMARY: Notice is hereby given that a major amendment to Permit No. 14326 has been issued to NMFS National Marine Mammal Laboratory, Seattle, WA.

ADDRESSES: The permit amendment and related documents are available for review upon written request or by appointment in the following offices:

Permits, Conservation and Education Division, Office of Protected Resources, NMFS, 1315 East-West Highway, Room 13705, Silver Spring, MD 20910; phone (301) 713-2289; fax (301) 713-0376; and Alaska Region, NMFS, P.O. Box 21668, Juneau, AK 99802-1668; phone (907) 586-7221; fax (907) 586-7249.

FOR FURTHER INFORMATION CONTACT: Tammy Adams or Amy Sloan, (301) 713-2289.

SUPPLEMENTARY INFORMATION: On April 18, 2011, notice was published in the Federal Register (76 FR 21703) that a request for an amendment to Permit No. 14326 to conduct research on Steller sea lions (Eumetopias jubatus) in the North Pacific Ocean, including rookeries and haulouts in CA, OR, WA, and AK, had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The amendment grants authorization for the following in AK: (1) Double the number of non-pup sea lions surveyed to accommodate one winter aerial survey of the Aleutian Islands per year; (2) shift some resight effort from the non-breeding season (August-May) to the breeding season (June-July) with increased potential disturbance for June-July and for August-May; (3) visit additional sites to supplement aerial surveys if logistics prevent aircraft access to sites with increased potential disturbance; (4) permanently mark (hot-brand) additional pups annually at rookeries in the Aleutian Islands (west of 170° W) in 2011 and 2013; and (5) for a subset of pups handled for permanent marking, add collection of blubber biopsies for fatty acid and toxicology analyses; collection of fecal loops for determination of parasites, disease, and hormone concentrations; collection of milk by stomach lavage; pulling a vibrissae; and external ultrasound. The amendment also includes authorization for the following in CA, OR, and WA: (1) Increase the number of aerial surveys flown per year from 4 to 12; (2) increase the number of vessel surveys that may occur at any one site per year (depending on funding, staffing, vessel availability, weather) from 12 to 24; and (3) increase the number of ground surveys that may occur at any one site per year (depending on funding, staffing, vessel availability, weather) from 5 to 24.

In compliance with the National Environmental Policy Act of 1969 (42 U.S.C. 4321 et seq.), NMFS has determined that the activities proposed are consistent with the Preferred Alternative in the Final Programmatic Environmental Impact Statement for Steller Sea Lion and Northern Fur Seal Research (NMFS 2007), and that issuance of the permit would not have a significant adverse impact on the human environment.

As required by the ESA, issuance of this permit was based on a finding that such permit: (1) Was applied for in good faith; (2) will not operate to the disadvantage of such endangered species; and (3) is consistent with the purposes and policies set forth in section 2 of the ESA.

Dated: June 13, 2011.
P. Michael Payne,
Chief, Permits, Conservation and Education Division, Office of Protected Resources, National Marine Fisheries Service.

[FR Doc. 2011-15134 Filed 6-16-11; 8:45 am]

BILLING CODE 3510-22-P